DEPARTMENT OF COMMERCE

Foreign-Trade Zones Board

[B-18-2023]

Foreign-Trade Zone (FTZ) 3, Notification of Proposed Production Activity; Phillips 66 Company; (Renewable Fuels and By-Products); Rodeo, California

Phillips 66 Company submitted a notification of proposed production activity to the FTZ Board (the Board) for its facility in Rodeo, California within Subzone 3E. The notification conforming to the requirements of the Board's regulations (15 CFR 400.22) was received on March 3, 2023.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed finished product(s) and material(s)/component(s) would be added to the production authority that the Board previously approved for the operation, as reflected on the Board's website.

The proposed finished products include treated renewable feedstock, sulfur, renewable fuels (naphtha; diesel; jet), sustainable jet fuel, butane, and mixed gas streams (duty rate ranges from duty-free to 8.0%, and 10.5¢/bbl).

The proposed foreign-status materials and components include: animal fats; oils (soybean; canola; rapeseed; distiller's corn; used cooking); mixed fats, oils, and grease (also known as FOG); and, greases (trap; brown; yellow (a mix of animal fats that may include used cooking oil)) (duty rate ranges from 0.43¢/kg to 3¢/kg, 3.4% to 19.1%). The request indicates that certain materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is April 19, 2023.

A copy of the notification will be available for public inspection in the “Online FTZ Information System” section of the Board's website.

For further information, contact Juanita Chen at juanita.chen@trade.gov.

Dated: March 6, 2023.
Elizabeth Whiteman,
Acting Executive Secretary.

[FR Doc. 2023-04891 Filed 3-9-23; 8:45 am]

BILLING CODE 3510-DS-P